DEPARTMENT OF HOMELAND SECURITY

Coast Guard

[COTP Houston-Galveston 06-037]

Houston-Galveston Area Maritime Security Committee; Vacancies

AGENCY: Coast Guard, DHS.

ACTION: Solicitation for membership.

SUMMARY: Under the Maritime Transportation Security Act of 2002, the Secretary of Homeland Security has established an Area Maritime Security (AMS) Committee under the direction of the Houston-Galveston Captain of the Port (COTP)/Federal Maritime Security Coordinator (FMSC). The Houston-Galveston COTP/FMSC hereby requests qualified individuals interested in serving on this committee to apply for AMS Committee membership.

DATES: Requests for membership should reach the Captain of the Port on or before January 24, 2007.

ADDRESSES: Requests for membership should be submitted to Sector Houston-Galveston, AMSC Executive Administrator, 9640 Clinton Drive, Houston TX 77029.

FOR FURTHER INFORMATION CONTACT: For questions about the Houston-Galveston AMS Committee or its charter, contact Ms. Tobi Moore, AMSC Executive Administrator, at (713) 671-5118.

SUPPLEMENTARY INFORMATION:

Authority

Section 102 of the Maritime Transportation Security Act (MTSA) of 2002 (Pub. L. 107-295) added section 70112 to Title 46 of the U.S. Code, and authorizes the Secretary of the Department in which the Coast Guard is operating to establish an AMS Committee for any port area of the United States. The MTSA includes a provision exempting these AMS Committees from the Federal Advisory Committee Act (FACA), Public Law 92-436, 86 Stat. 470 (5 U.S.C. App.2).

The Houston-Galveston AMS Committee assists the COTP/FMSC in the review and update of the AMS Plan for the Houston, Galveston, Freeport, and Texas City area of responsibility. Such matters may include, but are not limited to:

(1) Identifying critical port infrastructure and operations;

(2) Identifying risks (threats, vulnerabilities, and consequences);

(3) Determining mitigation strategies and implementation methods;

(4) Developing and describing the process to continually evaluate overall port security by considering consequences and vulnerabilities, how they may change over time, and what additional mitigation strategies can be applied; and

(5) Providing advice to, and assisting the COTP/FMSC in, reviewing and updating the Houston-Galveston Area Maritime Security Plan.

The Houston-Committee AMS Committee meets the last Thursday of odd-numbered months. Subcommittees, work groups and task forces convene between meetings of the parent committee. The AMS Committee meeting location is currently at the Port of Houston Authority, 111 East Loop North, Houston, TX. Committee meetings start at 9 a.m.

AMS Committee Membership

Applicants for AMS Committee membership should possess at least 5 years of experience related to maritime or port security operations. The total number of members of the AMS Committee shall be determined by the COTP/FMSC. Applicants may be required to pass an appropriate security background check prior to appointment to the committee.

The following appointed membership vacancies currently exist:

(1) Docks & Terminals—Alternate;

(2) City Police Departments—Primary and Alternate;

(3) County Sheriffs—Primary and Alternate;

(4) Fleets—Alternate;

(5) Labor—Primary and Alternate;

(6) Port Police Departments—Primary and Alternate;

(7) Port Rail—Alternate;

(8) Shipyards—Primary and Alternate; and

(9) Trucking Industry—Alternate.

Members' term of office will be for 5 years. Members are eligible to serve an additional term of office. Members will not receive any salary or other compensation for their service on the AMS Committee.

In support of the policy of the USCG on gender and ethnic diversity, we encourage qualified women and members of minority groups to apply.

Request for Applications

Applicants seeking AMS Committee membership are not required to submit formal applications to the COTP/FMSC, however, because we do have an obligation to ensure that a specific number of members have the prerequisite maritime security experience, we encourage the submission of resumes highlighting experience in the maritime and security industries.

Dated: November 22, 2006.
William J. Diehl,
Captain, U.S. Coast Guard, Federal Maritime Security Coordinator/Captain of the Port, Houston-Galveston.

[FR Doc. E6-21134 Filed 12-12-06; 8:45 am]

BILLING CODE 4910-15-P